DEPARTMENT OF THE INTERIOR

Fish and Wildlife Service

[FWS-R8-R-2016-N213; FF08RSDC00-178-F1611MD-FXRS12610800000]

Otay River Estuary Restoration Project, South San Diego Bay Unit of the San Diego Bay National Wildlife Refuge, California; Draft Environmental Impact Statement

AGENCY: Fish and Wildlife Service, Interior.

ACTION: Reopening of the public comment period.

SUMMARY: We, the U.S. Fish and Wildlife Service (Service), in coordination with the U.S. Army Corps of Engineers, a cooperating agency, announce the reopening of the public review and comment period for the Draft Environmental Impact Statement for the proposed Otay River Estuary Restoration Project at the South San Diego Bay Unit of the San Diego Bay National Wildlife Refuge in San Diego County, California.

DATES: To ensure consideration, we must receive your written comments by December 30, 2016.

ADDRESSES: Document Availability: You may obtain documents in the following places:

• Internet: https://www.fws.gov/refuge/San_Diego_Bay/what_we_do/Resource_Management/Otay_Restoration.html.

• In Person:

○ San Diego Bay National Wildlife Refuge Complex Headquarters, 1080 Gunpowder Point Drive, Chula Vista, CA 91910; telephone: 619-476-9150, extension 103.

○ Chula Vista Public Library, Civic Center Branch, 365 F Street, Chula Vista, CA 91910; telephone: 619-691-5069.

○ San Diego County Library, Imperial Beach Branch Library, 847 Encina Avenue (temporary location), Imperial Beach, CA 91932; telephone: 619-424-6981.

○ Chula Vista Public Library, South Chula Vista Branch, 389 Orange Avenue, Chula Vista, CA 91911; telephone: 619-585-5755.

For how to view comments on the draft EIS from the Environmental Protection Agency (EPA), or for information on EPA's role in the EIS process, see EPA's Role in the EIS Process under SUPPLEMENTARY INFORMATION.

Submitting Comments: You may submit written comments by one of the following methods:

• Email: Otay_EIS@fws.gov. Include “Otay Estuary EIS” in the subject line of the message.

• Fax: Attn: Brian Collins, 619-476-9149.

• U.S. Mail: Brian Collins, USFWS, San Diego NWR Complex, P.O. Box 2358, Chula Vista, CA 91912.

• In-Person Drop-off: You may drop off comments at the San Diego National Wildlife Refuge Complex Headquarters between 9 a.m. and 4 p.m.; please call 619-476-9150, extension 103, for directions.

FOR FURTHER INFORMATION CONTACT: Brian Collins, Refuge Manager, San Diego Bay National Wildlife Refuge, by telephone at 619-575-2704, extension 302, or via email at brian_collins@fws.gov; or Andy Yuen, Project Leader, by telephone at 619-476-9150, extension 100, or by email at andy_yuen@fws.gov.

SUPPLEMENTARY INFORMATION:

Introduction

On October 21, 2016, we published a Federal Register notice (81 FR 72817) announcing the availability of the draft environmental impact statement (EIS) for the proposed Otay River Estuary Restoration Project for public review and comment in accordance with National Environmental Policy Act (40 CFR 1506.6(b)) requirements. We originally opened the comment period from October 21, 2016, through December 5, 2016. We now are reopening the public comment period until December 30, 2016. For more information on the draft EIS and a description of the project, please see the October 2016 notice.

EPA's Role in the EIS Process

The EPA is charged under section 309 of the CAA (42 U.S.C. 7401 et seq.) to review all Federal agencies' environmental impact statements (EISs) and to comment on the adequacy and the acceptability of the environmental impacts of proposed actions in the EISs.

EPA also serves as the repository (EIS database) for EISs prepared by Federal agencies and provides notice of their availability in the Federal Register. The Environmental Impact Statement (EIS) Database provides information about EISs prepared by Federal agencies, as well as EPA's comments concerning the EISs. All EISs are filed with EPA, which publishes a notice of availability on Fridays in the Federal Register. You may search for EPA comments on the EIS, along with the EIS itself, at https://cdxnodengn.epa.gov/cdx-enepa-public/action/eis/search. The DEIS is also available at the locations under ADDRESSES.

NEPA Compliance

We are conducting environmental review in accordance with the requirements of NEPA, as amended (42 U.S.C. 4321 et seq.), its implementing regulations (40 CFR parts 1500-1508), other applicable regulations, and our procedures for compliance with those regulations. The DEIS discusses the direct, indirect, and cumulative impacts of the alternatives on biological resources, cultural resources, water quality, and other environmental resources. Measures to minimize adverse environmental effects are identified and discussed in the DEIS.

Public Involvement

You may submit written comments anytime during the comment period (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2016-31266 Filed 12-23-16; 8:45 am]

BILLING CODE 4333-15-P